OFFICE OF PERSONNEL MANAGEMENT

5 CFR Part 532

RIN 3206-AJ35

Prevailing Rate Systems; Definition of San Joaquin County, California, as a Nonappropriated Fund Wage Area

AGENCY: Office of Personnel Management.

ACTION: Final rule.

SUMMARY: The Office of Personnel Management is issuing a final rule that establishes San Joaquin County, California, as a new nonappropriated fund Federal Wage System (FWS) wage area. This change is necessary because the Army and Air Force Exchange Service built a new distribution facility in the county, which now employs many FWS workers.

Effective Date: This regulation is effective on September 3, 2002.

FOR FURTHER INFORMATION CONTACT: Chenty I. Carpenter, (202) 606-2848, FAX: (202) 606-4264, or e-mail cicarpen@opm.gov.

SUPPLEMENTARY INFORMATION: On January 23, 2002, the Office of Personnel Management (OPM) published an interim rule (67 FR 3035) that defined San Joaquin County, California, as a new nanappropriated fund (NAF) Federal Wage System (FWS) wage area. The interim rule had a 30-day public comment period, during which OPM did not receive any comments. San Joaquin County was defined as an area of application to the Sacramento, CA, NAF FWS wage area. San Joaquin County will be defined as a separate wage area because the Army and Air Force Exchange Service built a new distribution facility, with about 450 NAF FWS employees, in the county. Under 5 U.S.C 5343(a), NAF FWS wage area boundaries may not extend beyond the immediate locality where NAF employees work. OPM may establish a NAF wage area under 5 CFR 532.219 when there is a minimum of 26 NAF wage employees in a survey area and there is sufficient private employment within the survey area to provide adequate data for establishing an NAF wage schedule.

San Joaquin County meets the regulatory criteria to be a separate NAF wage area. Under 5 CFR 532.219, there must be a minimum of 1,800 private enterprise employees in establishments within the scope of a NAF survey for a separate wage area to be established. San Joaquin County has more than 139,000 private enterprise employees in surveyable establishments.

The Department of Defense conducted the first full-scale wage survey in the San Joaquin wage area in February 2002. NAF FWS employees in San Joaquin County were placed on the new San Joaquin wage schedule on the first day of the first applicable pay period beginning on or after April 13, 2002, the effective date of the first new wage schedule for the wage area. The Federal Prevailing Rate Advisory Committee, the national labor-management committee that advises OPM on FWS pay matters, recommended these changes by consensus.

Regulatory Flexibility Act

I certify that this regulation will not have a significant economic impact on a substantial number of small entities because it will affect only Federal agencies and employees.

List of Subjects in 5 CFR Part 532

Administrative practice and procedure, Freedom of information,

Government employees, Reporting and recordkeeping requirements, Wages.

Accordingly, under the authority of 5 U.S.C 5343, the interim rule (67 FR 3035) amending 5 CFR part 532 published on January 23, 2002, is adopted as final with no changes.

Office of Personnel Management.
Kay Coles James,
Director.

[FR Doc. 02-19462 Filed 7-31-02; 8:45 am]

BILLING CODE 6325-39-P